DEPARTMENT OF HEALTH AND HUMAN SERVICES

Administration for Children and Families

Submission for OMB Review; Community Services Block Grant (CSBG) Annual Report (OMB #0970-0492)

AGENCY: Office of Community Services, Administration for Children and Families, Department of Health and Human Services.

ACTION: Request for public comment.

SUMMARY: The Office of Community Services (OCS), Administration for Children and Families (ACF), U.S. Department of Health and Human Services (HHS), is requesting expedited review of an information collection request from the Office of Management and Budget (OMB) and is inviting public comments on the collection of data for the new Community Services Block Grant (CSBG) CARES Act Supplemental and CSBG Disaster Supplemental funding. This information is collected through modified versions of the currently approved CSBG Annual Report (OMB #0970-0492, expiration 5/31/2021).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ACF requested that OMB grant a 180-day approval for this request under procedures for expedited processing. A request for review under normal procedures is now being submitted. Any edits resulting from public comment have been incorporated into this submission under normal procedures. The CSBG Supplemental Annual Reports include modified versions of Modules 1, 2, and 4. Module 1 was modified to align with CSBG Disaster Supplemental and CSBG CARES State Plans and to help reduce the burden to the states. OCS modified Modules 2 and 4 to collect specific data for the supplemental funding and to reduce burden, including the removal of questions that were not pertinent to the data collection for the Supplemental Reports. OCS made additional technical modifications including minor wording, headings, and numbering revisions. Respondents are only expected to submit Module 3 once through the current CSBG Annual Report; OCS made technical revisions to allow respondents to confirm which funding source they are using—CSBG, CARES, or Disaster.

Respondents: State governments, including the District of Columbia and the Commonwealth of Puerto Rico, and U.S. territories and CSBG eligible entities (Community Action Agencies).

Annual Burden Estimates
Instrument | Total number of respondents | Total number of responses per respondent | Average burden hours per response | Total burden hours | Annual burden hours
CSBG Annual Report (States) | 52 | 3 | 198 | 30,088 | 10,296
CSBG Annual Report (Eligible Entities) | 1,009 | 3 | 697 | 2,109,819 | 703,273
CSBG CARES Supplemental Annual Report (States) | 52 | 3 | 107 | 16,692 | 5,564
CSBG CARES Annual Report (Eligible Entities) | 1,009 | 3 | 493 | 1,492,311 | 497,437
CSBG Disaster Supplemental Annual Report (States) | 15 | 3 | 95 | 4,275 | 1,425
CSBG Disaster Supplemental Annual Report (Eligible Entities) | 50 | 3 | 476 | 71,400 | 23,800

Estimated Total Annual Burden Hours: 1,241,795.

Authority: 112 Stat. 2729; 42 U.S.C. 9902(2).

Mary B. Jones,
ACF/OPRE Certifying Officer.

[FR Doc. 2021-08613 Filed 4-23-21; 8:45 am]

BILLING CODE 4184-27-P